DEPARTMENT OF COMMERCE

Foreign-Trade Zones Board

[B-17-2016]

Foreign-Trade Zone (FTZ) 158—Vicksburg/Jackson, Mississippi; Authorization of Limited Production Activity; Max Home, LLC (Upholstered Furniture); Iuka and Fulton, Mississippi

On March 17, 2016, the Greater Mississippi Foreign-Trade Zone, Inc., grantee of FTZ 158, submitted a notification of proposed production activity to the FTZ Board on behalf of Max Home, LLC, within Subzone 158F, in Iuka and Fulton, Mississippi.

The notification was processed in accordance with the regulations of the FTZ Board (15 CFR part 400), including notice in the Federal Register inviting public comment (81 FR 20617-20618, April 8, 2016). The FTZ Board has determined that further review of part of the proposed activity is warranted at this time. The production activity described in the notification, including indefinite extension of production authority, is authorized on a limited basis, subject to the FTZ Act and the Board's regulations, including Section 400.14, and further subject to a restriction requiring that foreign status upholstery leather (HTSUS 4107.11, 4107.92 and 4107.99) be admitted to the subzone in privileged foreign status (19 CFR 146.41). The activity otherwise remains subject to the restrictions and conditions established under Board Order 1744.

Dated: August 16, 2016.
Andrew McGilvray,
Executive Secretary.

[FR Doc. 2016-20180 Filed 8-22-16; 8:45 am]

BILLING CODE 3510-DS-P